DEPARTMENT OF THE INTERIOR

Bureau of Ocean Energy Management

[Docket No. BOEM-2021-0029]

Notice of Intent To Prepare an Environmental Impact Statement for Revolution Wind LLC's Proposed Wind Energy Facility Offshore Rhode Island

AGENCY: Bureau of Ocean Energy Management, Interior.

ACTION: Notice of intent to prepare an Environmental Impact Statement.

SUMMARY: Consistent with the regulations implementing the National Environmental Policy Act (NEPA), the Bureau of Ocean Energy Management (BOEM) announces its intent to prepare an Environmental Impact Statement (EIS) for the review of a construction and operations plan (COP) submitted by Revolution Wind, LLC (Revolution Wind) (formerly DWW Rev I, LLC). The COP proposes the construction and operation of a wind energy facility offshore Rhode Island with export cables connecting to the onshore electric grid in North Kingstown, Rhode Island. This notice of intent (NOI) announces the EIS scoping process for the Revolution Wind COP. Additionally, this NOI seeks public comment and input under section 106 of the National Historic Preservation Act (NHPA) and its implementing regulations. Detailed information about the proposed wind energy facility, including the COP, can be found on BOEM's website at: www.boem.gov/Revolution-Wind.

DATES: Comments received by June 1, 2021, will be considered.

BOEM will hold virtual public scoping meetings for the Revolution Wind EIS at the following dates and times (Eastern):

• Thursday, May 13, 5:30 p.m.;

• Tuesday, May 18, 5:30 p.m.; and

• Thursday, May 20, 1:00 p.m.

ADDRESSES: Written comments can be submitted in any of the following ways:

• Delivered by mail or delivery service, enclosed in an envelope labeled “Revolution Wind COP EIS,” and addressed to Program Manager, Office of Renewable Energy, Bureau of Ocean Energy Management, 45600 Woodland Road, Sterling, Virginia 20166; or

• Through the regulations.gov web portal: Navigate to http://www.regulations.gov and search for Docket No. BOEM-2021-0029. Click on the “Comment Now!” button to the right of the document link. Enter your information and comment, then click “Submit.”

FOR FURTHER INFORMATION CONTACT: Michelle Morin, BOEM Office of Renewable Energy Programs, 45600 Woodland Road, Sterling, Virginia 20166, (703) 787-1722 or michelle.morin@boem.gov.

SUPPLEMENTARY INFORMATION:

Purpose and Need for the Proposed Action

In Executive Order 14008, President Biden stated that it is the policy of the United States “to organize and deploy the full capacity of its agencies to combat the climate crisis to implement a Government-wide approach that reduces climate pollution in every sector of the economy; increases resilience to the impacts of climate change; protects public health; conserves our lands, waters, and biodiversity; delivers environmental justice; and spurs well-paying union jobs and economic growth, especially through innovation, commercialization, and deployment of clean energy technologies and infrastructure.”

Through a competitive leasing process under 30 CFR 585.211, Revolution Wind was awarded Commercial Lease OCS-A 0486 covering an area offshore Rhode Island (the Lease Area). Revolution Wind has the exclusive right to submit a COP for activities within the Lease Area, and it has submitted a COP to BOEM proposing the construction and installation, operations and maintenance, and conceptual decommissioning of an offshore wind energy facility in the Lease Area (the Project).

The goal of Revolution Wind is to develop a commercial-scale, offshore wind energy facility in the Lease Area with up to 100 wind turbine generators, inter-array cables, up to two offshore substations, and two transmission cables making landfall in North Kingstown, Rhode Island. The Project would contribute to Connecticut's mandate of 2,000 megawatts (MW) of offshore wind energy by 2030, as outlined in Connecticut Public Act 19-71, and Rhode Island's 100 percent renewable energy goal by 2030, as outlined in the Rhode Island Governor's Executive Order 20-01 of January 2020. Furthermore, Revolution Wind's goal to construct and operate a commercial-scale, offshore wind energy facility in the Lease Area is intended to fulfill the following three power purchase agreements (PPAs): (1) A 200-MW contract with the State of Connecticut approved in January 2019; (2) a 400-MW contract with the State of Rhode Island approved in June 2019; and (3) a 104-MW contract with the State of Connecticut approved in December 2019.

Based on the goals of the applicant and BOEM's authority, the purpose of BOEM's action is to respond to Revolution Wind's COP proposal and determine whether to approve, approve with modifications, or disapprove Revolution Wind's COP to construct and install, operate and maintain, and decommission a commercial-scale, offshore wind energy facility within the Lease Area (the Proposed Action). BOEM's action is needed to further the United States' policy to make Outer Continental Shelf (OCS) energy resources available for expeditious and orderly development, subject to environmental safeguards (43 U.S.C. 1332(3)), including consideration of natural resources, safety of navigation, and existing ocean uses.

In addition, the National Oceanic and Atmospheric Administration's (NOAA) National Marine Fisheries Service (NMFS) anticipates receipt of one or more requests for authorization to take marine mammals incidental to activities related to the Project pursuant to the Marine Mammal Protection Act (MMPA). NMFS's issuance of an MMPA incidental take authorization is a major Federal action and, in relation to BOEM's action, is considered a connected action (40 CFR 1501.9(e)(1)). The purpose of the NMFS action—which is a direct outcome of Revolution Wind's request for authorization to take marine mammals incidental to the Project (specifically pile driving)—is to evaluate the information in Revolution Wind's application pursuant to the MMPA and 50 CFR part 216 and to issue the requested incidental take authorizations, if appropriate. The need for the NMFS action is to consider the impacts of authorizing the requested take on marine mammals and their habitat. NMFS responsibilities under the MMPA (16 U.S.C. 1371(a)(5)(D)) and its implementing regulations establish and frame the need for NMFS action. NMFS intends to adopt BOEM's EIS to support its decision on any requested MMPA incidental take authorizations.

The U.S. Army Corps of Engineers (USACE) New England District anticipates a permit action to be undertaken through authority delegated to the District Engineer by 33 CFR 325.8, pursuant to section 10 of the Rivers and Harbors Act of 1899 (RHA) (33 U.S.C. 403) and section 404 of the Clean Water Act (CWA) (33 U.S.C. 1344). The USACE considers issuance of a permit under these two delegated authorities a major Federal action connected to BOEM's proposed action (40 CFR 1501.9(e)(1)). The purpose and need for the project as provided by the applicant in the COP and reviewed by USACE for NEPA purposes: To provide a commercially viable offshore wind energy project within Lease OCS-A 0486 to meet New England's need for clean energy. The project will deliver 704 MW of power to the New England energy grid. The basic project purpose, as determined by USACE for section 404(b)(1) guidelines evaluation, is offshore wind energy generation. Overall project purpose for section 404(b)(1) guidelines evaluation, as determined by USACE: the construction and operation of a commercial-scale offshore wind energy project, including associated transmission lines, for renewable energy generation and distribution to the Connecticut and Rhode Island energy grids. USACE intends to adopt BOEM's EIS to support its decision on any permits requested under section 10 of the RHA or section 404 of the CWA.

Preliminary Proposed Action and Alternatives

The Proposed Action is the construction and operation of a wind energy facility as described in the COP submitted by Revolution Wind on Lease Area OCS-A 0486. In its COP, Revolution Wind is proposing the construction and operation of up to 100 wind turbine generators connected by a network of inter-array cables, up to two offshore substations connected by an offshore substation-link cable, up to two submarine export cables, up to two underground transmission circuits located onshore, and an onshore substation inclusive of up to two interconnection circuits connecting to the existing Davisville Substation in North Kingstown, Rhode Island. Foundations of wind turbine generators would be monopiles. The wind turbine generators, offshore substations, array cables, and substation interconnector cables would be located on the OCS approximately 17.4 nautical miles (20 statute miles) south of the coast of Rhode Island. The offshore export cables would be buried below the seabed of both the OCS and Rhode Island State waters. The onshore export cables, substations, and grid connections would be located in North Kingstown, Rhode Island.

If any reasonable alternatives are identified during the scoping period, BOEM will evaluate those alternatives in the draft EIS, which will also include a no action alternative. Under the no action alternative, BOEM would disapprove the COP, and Revolution Wind's wind energy facility described in the COP would not be built in the Lease Area.

Once BOEM completes the EIS and associated consultations, BOEM will decide whether to approve, approve with modification, or disapprove the Revolution Wind COP. If BOEM approves the COP and the Project is constructed, the lessee must submit a plan to decommission the facilities before the end of the lease term.

Summary of Expected Impacts

The draft EIS will identify and describe the effects of the Proposed Action on the human environment that are reasonably foreseeable and have a reasonably close causal relationship to the Proposed Action. This includes such effects that occur at the same time and place as the Proposed Action or alternatives and such effects that are later in time or not at the same place. Expected impacts include, but are not limited to, impacts (both beneficial and adverse) to air quality, water quality, bats, benthic habitat, essential fish habitat, invertebrates, finfish, birds, marine mammals, terrestrial and coastal habitats and fauna, sea turtles, wetlands and other waters of the United States, commercial fisheries and for-hire recreational fishing, cultural resources, demographics, employment, economics, environmental justice, land use and coastal infrastructure, navigation and vessel traffic, other marine uses, recreation and tourism, and visual resources. The effects of these expected impacts will be analyzed in the draft and final EIS.

Based on a preliminary evaluation of these resources, BOEM expects impacts to sea turtles and marine mammals from underwater noise caused by construction and from collision risks with vessel traffic. Structures installed by the Project could permanently change benthic habitat and other fish habitat. Commercial fisheries and for-hire recreational fishing may be impacted. Project structures above the water may affect the visual character defining historic properties and recreational and tourism areas. Project structures also would pose an allision and height hazard to vessels passing close by, and vessels would in turn pose a hazard to the structures. Additionally, the Project may adversely impact mineral extraction, military use, air traffic, land-based radar services, cables and pipelines, and scientific surveys. Beneficial impacts are also expected by facilitating achievement of State renewable energy goals, increasing job opportunities, improving air quality, and reducing carbon emissions. The EIS will analyze measures that would avoid, minimize, or mitigate environmental effects.

Anticipated Permits and Authorizations

In addition to the requested COP approval, various other Federal, State, and local authorizations will be required for the Revolution Wind Project. These include authorizations under the Endangered Species Act, Magnuson‐Stevens Fishery Conservation and Management Act, Marine Mammal Protection Act, Rivers and Harbors Act, Clean Water Act, Coastal Zone Management Act, and other laws and regulations determined to be applicable to the Project. BOEM will also conduct government-to-government tribal consultations. For a full listing of regulatory requirements applicable to the Revolution Wind Project, please see the COP, volume I available at https://www.boem.gov/revolution-wind/.

BOEM has chosen to utilize the NEPA substitution process to fulfill its obligations under NHPA. While BOEM's obligations under NHPA and NEPA are independent, the regulations implementing NHPA allow for the use of NEPA review to substitute for various aspects of NHPA's section 106 (54 U.S.C. 306108) review to improve efficiency, promote transparency and accountability, and support a broadened discussion of potential effects that a project may have on the human environment. As provided in 36 CFR 800.8(c), the NEPA process and documentation required for the preparation of an EIS and record of decision (ROD) can be used to fulfill a lead Federal agency's NHPA section 106 review obligations in lieu of the procedures set forth in 36 CFR 800.3 through 800.6. During preparation of the EIS, BOEM will ensure that the NEPA substitution process will meet its NHPA obligations necessary to successfully utilize this alternative process.

Schedule for the Decision-Making Process

After the draft EIS is completed, BOEM will publish a notice of availability (NOA) and request public comments on the draft EIS. BOEM expects to issue the NOA in July 2022. After the public comment period ends, BOEM will review and respond to comments received and will develop the final EIS. BOEM expects to make the final EIS available to the public in March 2023. A ROD will be completed no sooner than 30 days after the final EIS is released, in accordance with 40 CFR 1506.11.

Scoping Process

This NOI commences the public scoping process for identifying issues and potential alternatives for consideration in the Revolution Wind EIS. Throughout the scoping process, Federal agencies; State, tribal, and local governments; and the general public have the opportunity to help BOEM determine significant resources and issues, impact-producing factors, reasonable alternatives (e.g., size, geographic, seasonal, or other restrictions on construction and siting of facilities and activities), and potential mitigation measures to be analyzed in the EIS as well as to provide additional information. In the interests of efficiency, completeness, and facilitating public involvement, BOEM will use the NEPA process to fulfill public involvement requirements established in 36 CFR 800.2(d). BOEM will involve the public, local governments, Indian tribes, and Revolution Wind and will identify other consulting parties, including consideration of all written requests by individuals and organizations to participate as consulting parties. BOEM will hold virtual public scoping meetings for the Revolution Wind EIS at the following dates and times (Eastern):

• Thursday, May 13, 5:30 p.m.;

• Tuesday, May 18, 5:30 p.m.; and

• Thursday, May 20, 1:00 p.m.

Registration for the virtual public meetings may be completed here: https://www.boem.gov/Revolution-Wind-Scoping-Virtual-Meetings or by calling (703) 787-1073.

NEPA Cooperating Agencies: BOEM invites other Federal agencies and State, tribal, and local governments to consider becoming cooperating agencies in the preparation of this EIS. CEQ NEPA regulations specify that qualified agencies and governments are those with “jurisdiction by law or special expertise.” Potential cooperating agencies should consider their authority and capacity to assume the responsibilities of a cooperating agency and should be aware that an agency's role in the environmental analysis neither enlarges nor diminishes the final decision-making authority of any other agency involved in the NEPA process.

Upon request, BOEM will provide potential cooperating agencies with a written summary of expectations for cooperating agencies, including schedules, milestones, responsibilities, scope and detail of cooperating agencies' contributions, and availability of pre-decisional information. BOEM anticipates this summary will form the basis for a memorandum of agreement between BOEM and any non-Interior Department cooperating agency. Agencies also should consider the factors for determining cooperating agency status in CEQ's memorandum entitled “Cooperating Agencies in Implementing the Procedural Requirements of the National Environmental Policy Act” of January 30, 2002. This document is available on the internet at: http://energy.gov/sites/prod/files/nepapub/nepa_documents//G-CEQ-CoopAgenciesImplem.pdf. BOEM, as the lead agency, will not provide financial assistance to cooperating agencies. Even if a governmental entity is not a cooperating agency, it will have opportunities to provide information and comments to BOEM during the public input stages of the NEPA process.

NHPA Consulting Parties: Certain individuals and organizations with a demonstrated interest in the Project may request to participate as NHPA consulting parties under 36 CFR 800.2(c)(5) based on their legal or economic stake in historic properties affected by the Project. Additionally, the same provision allows those with concerns about the Project's effect on historic properties to request to be consulting parties. Before issuing this NOI, BOEM compiled a list of potential consulting parties and, in writing, invited these potential participants to become consulting parties. In order to become a consulting party, those invited must respond in writing, preferably by the requested response date. Interested individuals or organizations that did not receive an invitation may request to be consulting parties by writing to the appropriate staff at SWCA, which is supporting BOEM in its administration of this review. SWCA's contact for this Project is Scott Phillips at sphillips@swca.com or (303) 468-6903. BOEM will determine which interested parties should be consulting parties.

Comments: Federal agencies; tribal, State, and local governments; and other interested parties are requested to comment on the scope of this EIS, significant issues that should be addressed, and alternatives that should be considered. For information on how to submit comments, see the “Addresses” section above.

BOEM does not consider anonymous comments. Please include your name and address as part of your comment. BOEM makes all comments, including the names, addresses, and other personally identifiable information included in the comment, available for public review online. Individuals may request that BOEM withhold their names, addresses, or other personally identifiable information included in their comment from the public record; however, BOEM cannot guarantee that it will be able to do so. In order for BOEM to withhold from disclosure your personally identifiable information, you must identify any information contained in your comments that, if released, would constitute a clearly unwarranted invasion of your privacy. You also must briefly describe any possible harmful consequences of the disclosure of information, such as embarrassment, injury, or other harm. All submissions from organizations or businesses and from individuals identifying themselves as representatives or officials of organizations or businesses will be made available for public inspection in their entirety.

Request for Identification of Potential Alternatives, Information, and Analyses Relevant to the Proposed Action

BOEM requests data, comments, views, information, analysis, alternatives, or suggestions from the public; affected Federal, State, tribal, and local governments, agencies, and offices; the scientific community; industry; or any other interested party on the Proposed Action. Specifically:

1. Potential effects that the Proposed Action could have on biological resources, including bats, birds, coastal fauna, finfish, invertebrates, essential fish habitat, marine mammals, and sea turtles.

2. Potential effects that the Proposed Action could have on physical resources including air quality, water quality, and wetlands and other waters of the United States.

3. Potential effects that the Proposed Action could have on socioeconomic and cultural resources, including commercial fisheries and for-hire recreational fishing, demographics, employment, economics, environmental justice, land use and coastal infrastructure, navigation and vessel traffic, other uses (marine minerals, military use, aviation), recreation and tourism, and scenic and visual resources.

4. Other possible reasonable alternatives to the Proposed Action that BOEM should consider, including additional or alternative avoidance, minimization, and mitigation measures.

5. As part of its compliance with NHPA(54 U.S.C. 306108) section 106 and its implementing regulations (36 CFR part 800), BOEM seeks public comment and input regarding the identification of historic properties within the Proposed Action's area of potential effects and the potential effects to those historic properties from the activities proposed under the COP. BOEM requests feedback from the public and consulting parties on the aforementioned information and any information that supports identification of historic properties under the NHPA. BOEM also solicits proposed measures to avoid, minimize, or mitigate any adverse effects on historic properties. BOEM will present available information regarding known historic properties during the public scoping period at https://www.boem.gov/revolution-wind/. BOEM's effects analysis for historic properties will be available for public and consulting party comment in the draft EIS.

6. Information on other current or planned activities in, or in the vicinity of, the Proposed Action and their possible impacts on the Project or the Project's impacts on those activities.

7. Other information relevant to the Proposed Action and its impacts on the human environment.

To promote informed decision making, comments should be as specific as possible and should provide as much detail as necessary to meaningfully participate and fully inform BOEM of the commenter's position. Comments should explain why the issues raised are important to the consideration of potential environmental impacts and alternatives to the Proposed Action as well as economic, employment, and other impacts affecting the quality of the human environment.

The draft EIS will include a summary that identifies all alternatives, information, and analyses submitted by Federal agencies, State, tribal, and local governments, and other public commenters during the scoping process for consideration by BOEM and the cooperating agencies.

Authority: This NOI is published pursuant to NEPA, 42 U.S.C. 4321 et seq., and 40 CFR 1501.9.

William Yancey Brown,
Chief Environmental Officer, Bureau of Ocean Energy Management.

[FR Doc. 2021-09048 Filed 4-29-21; 8:45 am]

BILLING CODE 4310-MR-P